DEPARTMENT OF HEALTH AND HUMAN SERVICES

Administration for Children and Families

Submission for OMB Review; Comment Request

Title: National Directory of New Hires.

OMB No.: 0970-0166.

Description: The National Directory of New Hires (NDNH), an automated directory maintained by the Federal Office of Child Support Enforcement, was established pursuant to the Personal Responsibility and Work Opportunity Reconciliation Act of 1996. 42 U.S.C. 653(i)(1). In accordance with section 453A(g)(2) of the Social Security Act, employers are required to report information pertaining to newly hired employees to their state directory of new hires (SDNH) and, within three days of receiving employer information, states are required to transmit SDNH information to the NDNH. States are also required to transmit wage and unemployment compensation claims information to the NDNH on a quarterly basis. Federal agencies are required to report new hires and quarterly wage information directly to the NDNH.

The information maintained in the NDNH is collected electronically and assists states administering child support programs locate parents and enforce child support orders. Additionally, Congress authorized specific state and federal agencies to receive NDNH information for authorized purposes to assist in administering certain programs.

Respondents: Employers, State Child Support Enforcement Agencies, and State Workforce Agencies.

Annual Burden Estimates
Instrument | Number of respondents | Number of responses per respondent | Average burden hours per response | Total burden hours
New Hire: Employers Reporting Manually | ¹ 5,294,970 | ² 1.98 | .025 hours (1.5 minutes) | 262,101.02
New Hire: Employers Reporting Electronically | ³ 635,162 | ⁴ 76.40 | .00028 hours (1 second) ⁵ | 13,587.39
New Hire: States | 54 | ⁶ 193,947.41 | .016667 hours (1 minute) ⁷ | 174,556.16
Quarterly Wage & Unemployment Compensation | 53 | ⁸ 27 | .00028 hours (2 minutes) | .40
Multistate Employers' Notification Form | 4,632 | 1 | .050 hours (3 minutes) | 231.60
Total |  |  |  | 450,477
¹ Eighty-nine percent of all employers report manually (based on SSA's experience).
² For the “Employers” tiers, “response” is defined as the number of new hire reports. Only 18 percent of all new hire reports are reported manually and 82 percent are reported electronically (based on OCSE's experience).
³ Eleven percent of all employers report electronically (based on SSA's experience).
⁴ “Response” is defined as the number of new hire reports. Eighty-two percent of new hire reports are reported electronically (based on OCSE's experience).
⁵ Based on the assumption that employers reporting new hires electronically transmit their reports in a batch file, thus significantly reducing the per-response burden.
⁶ Based on the average number of reports per transmission and the average burden per new hire report that are submitted manually. Reports submitted electronically are automated. The average number of reports per transmission is calculated by dividing 10,473,160 (total number of manual new hire reports) by 54 (total number of states).
⁷ The average burden per new hire report is estimated to be one minute.
⁸ “Response” is defined here as the number of transmissions to the NDNH. States are required to transmit quarterly wage and unemployment compensation data four times a year.

Estimated Total Annual Burden Hours: 450,477 hours.

Additional Information

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: 202-395-7285, Email: OIRA_SUBMISSION@OMB.EOP.GOV. Attn: Desk Officer for the Administration for Children and Families.

Robert Sargis,
Reports Clearance Officer.

[FR Doc. 2013-06326 Filed 3-19-13; 8:45 am]

BILLING CODE 4184-01-P